ENVIRONMENTAL PROTECTION AGENCY

40 CFR Part 62

[PA118-4120b; FRL-7038-7]

Approval and Promulgation of Air Quality Implementation Plans for Designated Facilities and Pollutants; Pennsylvania; Conversion of the Conditional Approval of the Pennsylvania Large Municipal Waste Combustor (MWC) Plan to Full Approval

AGENCY: Environmental Protection Agency (EPA).

ACTION: Proposed rule.

SUMMARY: EPA is proposing to convert its conditional approval of the Commonwealth of Pennsylvania's large municipal waste combustor (MWC) plan submitted by the Pennsylvania Department of Environmental Protection (PADEP) to a full approval. In the Final Rules section of this Federal Register, EPA is converting its conditional approval of the Commonwealth's MWC plan as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Comments must be received in writing by September 19, 2001.

ADDRESSES: Written comments should be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and Pennsylvania Department of Environmental Protection, Bureau of Air Quality, Rachel Carson State Office Building, 400 Market Street, Harrisburg, Pennsylvania 17105-8465.

FOR FURTHER INFORMATION CONTACT: James B. Topsale (215) 814-2190 at the EPA Region III address above, or by e-mail at topsale.jim@epa.gov. Please note that while questions may be posed via telephone and e-mail, formal comments must be submitted, in writing, as indicated in the ADDRESSES section of this document.

SUPPLEMENTARY INFORMATION: For further information, please see the information provided in the direct final action, with the same title, that is located in the “Rules and Regulation” section of this Federal Register publication.

Dated: August 10, 2001.
Judith Katz,
Acting Regional Administrator, Region III.

[FR Doc. 01-20893 Filed 8-17-01; 8:45 am]

BILLING CODE 6560-50-P